DEPARTMENT OF TRANSPORTATION

National Highway Traffic Safety Administration

[U.S. DOT Docket Number NHTSA-2007-27231-2]

Reports, Forms and Recordkeeping Requirements: Agency Information Collection Activity Under OMB Review

AGENCY: National Highway Traffic Safety Administration (NHTSA), DOT.

ACTION: Federal Register notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on February 14, 2007 (72 FR 7114).

DATES: OMB approval has been requested by June 29, 2007.

FOR FURTHER INFORMATION CONTACT: Samuel Daniel at the National Highway Traffic Safety Administration (NHTSA), Office of Crash Avoidance Standards (NVS-120), (202) 366-4921. sam.daniel@dot.gov. 400 Seventh Street, SW., Washington, DC 20590.

SUPPLEMENTARY INFORMATION:

National Highway Traffic Safety Administration

Title: 49 CFR 571.116, Motor Vehicle Brake Fluids.

OMB Number: 2127-0521.

Type of Request: Extension of a currently approved collection. This request for an extension of a currently approved collection, if approved, will allow the Department of Transportation to continue to enforce the labeling requirements for motor vehicle brake fluid and hydraulic mineral oil containers as specified in FMVSS No. 116, Motor Vehicle Brake Fluids.

Abstract: Federal Motor Vehicle Safety Standard No. 116, Motor Vehicle Brake Fluids, specifies performance and design requirements for motor vehicle brake fluids and hydraulic system mineral oils. Section 5.2.2 specifies labeling requirements for manufacturers and packagers of brake fluids as well as packagers of hydraulic system mineral oils. The label on a container of motor vehicle brake fluid or hydraulic system mineral oil is permanently attached, clearly states the contents of the container, and includes a DOT symbol indicating that the contents of the container meet the requirements of FMVSS No. 116. The label is necessary to help ensure that these fluids are used for their intended purpose only and the containers are properly disposed of when empty. Improper use, storage, or disposal of these fluids could represent a significant safety hazard for the operators of vehicles or equipment in which they are used and for the environment.

Affected Public: Business or other for profit organizations.

Estimated Total Annual Burden: 7000 hours.

Estimated Number of Respondents: 200.

ADDRESSES: Send comments, within 30 days, to the Office of Information and Regulatory Affairs, Office of Management and Budget, 725 17th Street, NW., Washington, DC 20503, Attention NHTSA Desk Officer.

Comments Are Invited On: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology. A comment to OMB is most effective if OMB receives it prior to June 29, 2007.

Issued on: May 23, 2007.
Stephen R. Kratzke,
Associate Administrator for Rulemaking.

[FR Doc. 07-2678 Filed 5-29-07; 8:45 am]

BILLING CODE 4910-59-M